NUCLEAR REGULATORY COMMISSION

[Docket Nos. 50-315 and 50-316]

Indiana Michigan Power Company; Notice of Consideration of Issuance of Amendment to Facility Operating License, Proposed No Significant Hazards Consideration Determination, and Opportunity for a Hearing

The U.S. Nuclear Regulatory Commission (the Commission) is considering issuance of amendments to Facility Operating License Nos. DPR-58 and DPR-74 issued to Indiana Michigan Power Company (the licensee) for operation of the Donald C. Cook Nuclear Power Plant, Units 1 and 2, located in Berrien County, Michigan.

The proposed amendments would approve an unreviewed safety question discovered by the licensee during a 10 CFR 50.59 evaluation of modifications to the auxiliary feedwater (AFW) pump rooms to protect the equipment in the rooms from the environmental effects of a postulated high-energy line break (HELB). This will be accomplished by sealing the AFW pump rooms to ensure that the rooms do not communicate with the turbine buildings or each other.

Before issuance of the proposed license amendment, the Commission will have made findings required by the Atomic Energy Act of 1954, as amended (the Act), and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the change involve a significant increase in the probability of occurrence or consequences of an accident previously evaluated?

Failures of the proposed MDAFP [motor driven auxilary feedwater pump] and TDAFP [turbine driven auxilary feedwater pump] room cooling systems during either normal operations or emergency operations cannot initiate any of the accidents previously evaluated in the UFSAR. The proposed MDAFP and TDAFP room cooling systems do not interface with the reactor coolant system, containment, or engineered safeguards features in such a way as to be a precursor or initiator for an accident previously evaluated. Therefore, the proposed modifications do not increase the probability of occurrence of an accident previously evaluated.

The proposed MDAFP and TDAFP room cooling systems ensure protection of AFW equipment from the environmental effects of a HELB event. This ensures the AFW system is capable of performing the safety-related functions required to mitigate the effects of design basis accidents. The AFW system is required to mitigate design basis accidents that result in the loss of cooling for the reactor coolant system. These include loss of normal feedwater control, loss of all (non-emergency) alternating-current power (i.e., offsite power) to the plant auxiliaries, steam generator tube rupture, large break loss-of-coolant accidents, and small break loss-of-coolant accidents. In addition, the AFW system is required to safely shutdown the reactor following certain HELB events in the turbine buildings resulting from feedwater and main steam piping breaks and critical cracks. Since the AFW system is assured of performing its intended design function in mitigating the effects of design basis accidents by the proposed modifications, the consequences of accidents previously evaluated in the UFSAR will not be increased.

Therefore, the probability of occurrence or the consequences of accidents previously evaluated are not increased.

2. Does the change create the possibility of a new or different kind of accident from any accident previously evaluated?

Failures of the proposed MDAFP and TDAFP room cooling systems during either normal operations or emergency operations cannot initiate an accident. The proposed MDAFP and TDAFP room cooling systems do not interface with the reactor coolant system, containment, or engineered safeguards features in such a way as to be a precursor or initiator for an accident.

The proposed modifications to the AFW pump rooms have been designed to ensure that the train failure scenarios and design basis accident mitigation functions for AFW are preserved as described in the CNP [Cook Nuclear Plant] UFSAR. The electrical power supplies and AFW pump room cooler water sources maintain the design basis train alignments. Thus, when postulated design basis accident scenarios and single failures are applied to the proposed AFW pump room modification configurations, the AFW system remains bounded by the accident analysis presented in the UFSAR. The modifications do not impact how the AFW system will actuate and perform in response to those design basis accident scenarios that require AFW to mitigate the events.

Therefore, the change does not create the possibility of a new or different kind of accident from any accident previously evaluated.

3. Does the change involve a significant reduction in a margin of safety?

The proposed modifications to the MDAFP and TDAFP room ventilation systems do not create a reduction in the margin of safety for those systems, structures, and components required for safe shutdown or accident mitigation as previously analyzed in the UFSAR. The proposed modifications provide a different method for cooling the AFW pump rooms while ensuring environmental protection to each MDAFP and each TDAFP from the effects of postulated HELB events.

As discussed above, the proposed modifications to the AFW pump rooms have been designed to ensure that the train failure scenarios and design basis accident mitigation functions for AFW are preserved as described in the CNP UFSAR. Since the intended safety function of the AFW pump room cooling systems remains the same, margin of safety is preserved. The proposed modifications ensure the availability and reliability of the AFW pumps is maintained commensurate with the assumptions made in the UFSAR accident analyses.

Therefore, the proposed changes do not involve a reduction in a margin of safety.

The NRC staff has reviewed the licensee's analysis and, based on this review, it appears that the three standards of 10 CFR 50.92 are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By March 27, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's Public Document Room, the Gelman Building, 2120 L Street, NW., Washington, DC. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to David. W. Jenkins, Esq., American Electric Power, Nuclear Generation Group, One Cook Place, Bridgman, MI 49106, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(I)-(v) and 2.714(d).

For further details with respect to this action, see the application for amendment dated February 18, 2000, which is available for public inspection at the Commission's Public Document Room, the Gelman Building, 2120 L Street, NW., Washington, DC. Publicly available records will be accessible electronically from the ADAMS Public Library component on the NRC Web site, http:www.nrc.gov (the Electronic Reading Room).

Dated at Rockville, Maryland, this 18th day of February, 2000.
For the Nuclear Regulatory Commission.
John F. Stang,
Senior Project Manager, Section 1, Project Directorate III, Division of Licensing Project Management, Office of Nuclear Reactor Regulation.

[FR Doc. 00-4465 Filed 2-24-00; 8:45 am]

BILLING CODE 7590-01-P